DEPARTMENT OF HEALTH AND HUMAN SERVICES

National Institutes of Health

Center for Scientific Review; Amended Notice of Meeting

Notice is hereby given of a change in the meeting of the Center for Scientific Review Special Emphasis Panel, June 13, 2005, 8 a.m. to June 13, 2005, 5 p.m., Embassy Suites at the Chevy Chase Pavilion, 4300 Military Road, NW., Washington, DC 20015, which was published in the Federal Register on May 11, 2005, 79 FR 24829-24832.

The meeting will be held at The Watergate Hotel, 2650 Virginia Avenue, NW., Washington, DC 20037. The meeting date and time remain the same. The meeting is closed to the public.

Dated: May 16, 2005.
LaVerne Y. Stringfield,
Director, Office of Federal Advisory Committee Policy.

[FR Doc. 05-10320 Filed 5-23-05; 8:45 am]

BILLING CODE 4140-01-M